DEPARTMENT OF ENERGY

Federal Energy Regulatory Commission

[Docket No. RP98-117-011]

K N Interstate Gas Transmission Co.; Notice of Proposed Changes in FERC Gas Tariff

January 12, 2000.

Take notice that on January 7, 2000, K N Interstate Gas Transmission Co. (KNI) moved into effect certain rates and revised tariff sheets to its FERC Gas Tariff, Third Revised Volume No. 1-A, Third Revised Volume No. 1-B, First Revised Volume No. 1-C, and First Revised Volume No. 1-D as follows:

The following tariff sheets to be effective August 1, 1998:

Third Revised Volume No. 1-A

Fifth Sub Second Revised Sheet No. 4A

Substitute Second Revised Sheet No. 4B

Fifth Sub Second Revised Sheet No. 4C

Fifth Sub Fifth Revised Sheet No. 4D

Substitute Second Revised Sheet No. 4E

Third Revised Volume No. 1-B

Substitute First Revised Sheet No. 68

Substitute First Revised Sheet No. 69

Substitute First Revised Sheet No. 70

Substitute First Revised Sheet No. 71

Substitute First Revised Sheet No. 79

Substitute First Revised Sheet No. 80

Substitute First Revised Sheet No. 81

Substitute First Revised Sheet No. 82

Substitute First Revised Sheet No. 85

Substitute First Revised Sheet No. 86

First Revised Volume No. 1-C

Second Sub Tenth Revised Sheet No. 4

First Revised Volume No. 1-D

Substitute First Revised Sheet No. 66

Substitute First Revised Sheet No. 67

Substitute First Revised Sheet No. 68

Substitute First Revised Sheet No. 69

Substitute First Revised Sheet No. 70

Substitute First Revised Sheet No. 71

The following tariff sheets to be effective January 1, 1999:

Third Revised Volume No. 1-A

Fourth Sub Sixth Revised Sheet No. 4D

First Revised Volume No. 1-C

Second Sub Eleventh Revised Sheet No. 4

The following tariff sheets to be effective June 1, 1999:

Third Revised Volume No. 1-A

Third Sub Third Revised Sheet No. 4A

Third Sub Third Revised Sheet No. 4C

Third Sub Third Revised Sheet No. 4D

First Revised Volume No. 1-C

Third Sub Twelfth Revised Sheet No. 4

The following tariff sheets to be effective July 1, 1999:

Third Revised Volume No. 1-A

Substitute Eighth Revised Sheet No. 4D

Third Revised Sheet No. 4E

Third Revised Volume No. 1-B

Third Revised Sheet No. 24

First Revised Volume No. 1-C

Sub Thirteenth Revised Sheet No. 4

First Revised Volume No. 1-D

Third Revised Sheet No. 21

The following tariff sheets to be effective January 1, 2000:

Third Revised Volume No. 1-A

Second Sub Ninth Revised Sheet No. 4D

Substitute Tenth Revised Sheet No. 4D

Fourth Revised Sheet No. 4E

Second Revised Sheet No. 76

Original Sheet No. 76A

First Revised Volume No. 1-C

3rd Sub Fourteenth Revised Sheet No. 4

KNI states that such revised tariff sheets reflect changes in rates and tariff provisions pursuant to the Commission's Letter Order approving KNI's filed Offer of Settlement and Stipulation and Agreement issued on December 22, 1999, in this proceeding, 89 FERC ¶ 61,323 (1999).

KNI states that it has served copies of this filing upon all jurisdictional customers, interested State Commissions, and other interested parties, as well as all parties on the restricted service list in Docket Nos. RP98-117, et al.

Any person desiring to protest this filing should file a protest with the Federal Energy Regulatory Commission, 888 First Street, NE, Washington, DC 20426, in accordance with section 385.211 of the Commission's Rules and Regulations. All such protests must be filed as provided in section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-1183 Filed 1-18-00; 8:45 am]

BILLING CODE 6717-01-M